DEPARTMENT OF DEFENSE

Office of the Secretary

Privacy Act of 1974; System of Records

AGENCY: Office of the Secretary, DoD

ACTION: Notice to amend a system of records.

SUMMARY: The Office of the Secretary is amending one system of records notice in its inventory of records systems subject to the Privacy Act of 1974, as amended (5 U.S.C. 552a).

DATES: The changes will be effective on (insert date thirty days after publication in the Federal Register) unless comments are received that would result in a contrary determination.

ADDRESSES: Send comments to OSD Privacy Act Coordinator, Directives and Records Division, Washington Headquarters Services, 1155 Defense Pentagon, Washington, DC 20301-1155.

FOR FURTHER INFORMATION CONTACT: Mr. Dan Cragg at (703) 601-4722.

SUPPLEMENTARY INFORMATION: The Office of the Secretary of Defense notices for systems of records subject to the Privacy Act of 1974 (5 U.S.C. 552a), as amended, have been published in the Federal Register and are available from the address above.

The specific amendments to the records system being amended are set forth below followed by the notice, as amended, published in its entirety. The proposed amendments are not within the purview of subsection (r) of the Privacy Act of 1974, (5 U.S.C. 552a), as amended, which requires the submission of a new or altered system report.

Dated: December 19, 2003.
Patricia L. Toppings,
Alternate OSD Federal Register Liaison Officer, Department of Defense.

DFOISR 11

System name:

Mandatory Declassification Review Files (August 7, 2002, 67 FR 51235).

Changes:

* * * * *

System location:

Delete entry and replace with ‘Chief, Declassification and Historical Research Branch, Suite 501, Crystal Gateway North, 1111 Jefferson Davis Highway, Arlington, VA 22202-4306.’

* * * * *

System manager(s) and address:

Delete entry and replace with ‘Chief, Declassification and Historical Research Branch, Suite 501, Crystal Gateway North, 1111 Jefferson Davis Highway, Arlington, VA 22202-4306.’

* * * * *

Notification procedure:

Delete entry and replace with ‘Individuals seeking to determine whether information about themselves is contained in this system of records should address written inquiries to the Chief, Declassification and Historical Research Branch, Suite 501, Crystal Gateway North, 1111 Jefferson Davis Highway, Arlington, VA 22202-4306.’

* * * * *

Record access procedures:

Individuals seeking access to information about themselves contained in this system should address written inquiries to the Chief, Declassification and Historical Research Branch, Suite 501, Crystal Gateway North, 1111 Jefferson Davis Highway, Arlington, VA 22202-4306.

* * * * *

DFOISR 11

System name:

Mandatory Declassification Review Files.

System location:

Chief, Declassification and Historical Research Branch, Suite 501, Crystal Gateway North, 1111 Jefferson Davis Highway, Arlington, VA 22202-4306.

Categories of individuals covered by the system:

Individuals who request Mandatory Declassification Review (MDR) or appeal an MDR determination of any classified document for the purpose of releasing declassified material to the public, as provided for under the applicable Executive Order(s) governing classified National Security Information. Other individuals in the system are action offers.

Categories of records in the system:

Name and address of person making MDR request or appeal, identification of records requested, dates and summaries of action taken, and documentation for establishing and processing collectable fees.

Names, titles, and/or positions of security specialists and/or officials responsible for an initial or final denial on appeal of a request for declassification of a record.

Authority for maintenance of the system:

E.O. 12958, Classified National Security Information, or other applicable Executive Order(s) governing classified National Security Information.

Purpose(s):

To manage requests and/or appeals from individuals for the mandatory review of classified documents for the purposes of releasing declassified material to the public; and to provide a research resource of historical data on release of records so as to facilitate conformity in subsequent actions.

Data developed from this system is used for the annual report required by the applicable Executive Order(s) governing classified National Security Information. This data also serves management needs, by providing information about the number of requests; the type or category of records requested; and the average processing time.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of OSD's compilation of systems of records notices apply to this system.

Policies and practices for storing, retrieving, accessing, retaining, and disposing of records in the system:

Storage:

Magnetic media storage, computer database, paper computer printouts, and paper records in file folders.

Retrievability:

Retrieved by name of requester and other pertinent information, such as organization or address, subject material describing the MDR item (including date), MDR request number using computer indices, referring agency, or any combination of fields.

Safeguards:

Paper records are maintained in security containers with access limited to officials having a need-to-know based on their assigned duties. Computer systems require user passwords and users are limited according to their assigned duties to appropriate access on a need-to-know basis.

Retention and disposal:

Files that grant access to records are held in current status for two years after the end of the calendar year in which created, then destroyed. Files pertaining to denials of requests are destroyed 5 years after final determination. Appeals are retained for 3 years after final determination.

System manager(s) and address:

Chief, Declassification and Historical Research Branch, Suite 501, Crystal Gateway North, 1111 Jefferson Davis Highway, Arlington, VA 22202-4306.

Notification procedure:

Individuals seeking to determine whether information about themselves is contained in this system of records should address written inquiries to the Chief, Declassification and Historical Research Branch, Suite 501, Crystal Gateway North, 1111 Jefferson Davis Highway, Arlington, VA 22202-4306.

Written requests for information should include the full name and organizational affiliation of the individual at the time the record would have been created.

Record access procedures:

Individuals seeking access to information about themselves contained in this system should address written inquiries to the Chief, Declassification and Historical Research Branch, Suite 501, Crystal Gateway North, 1111 Jefferson Davis Highway, Arlington, VA 22202-4306.

Written requests for information should include the full name and organizational affiliation of the individual at the time the record would have been created.

For personal visits to examine records, the individual should provide identification such as a driver's license or other form of picture identification.

Contesting record procedures:

The OSD rules for accessing records, for contesting contents and appealing initial agency determinations are published in OSD Administrative Instruction 81; 32 CFR part 311; or may be obtained from the system manager.

Record source categories:

Requests from individuals for Mandatory Declassification Review and subsequent release of records and information provided by form and memorandum by officials who hold the requested records, act upon the request, or who are involved in legal action stemming from the action taken.

Exemptions claimed for the system:

None.

[FR Doc. 03-31924 Filed 12-29-03; 8:45 am]

BILLING CODE 5001-06-M